DEPARTMENT OF THE INTERIOR

Bureau of Land Management

[LL WO31000.L13100000.PB0000.15X]

Renewal of Approved Information Collection; OMB Control No. 1004-0185

AGENCY: Bureau of Land Management, Interior.

ACTION: 60-day notice and request for comments.

SUMMARY: In accordance with the Paperwork Reduction Act, the Bureau of Land Management (BLM) invites public comments on, and plans to request approval to continue, the collection of information pertaining to Federal and Indian oil and gas leasing and drainage protection (except on the Osage Reservation). The Office of Management and Budget (OMB) has assigned control number 1004-0185 to this information collection.

DATES: Submit comments on the proposed information collection by September 14, 2015.

ADDRESSES: Comments may be submitted by mail, fax, or electronic mail.

Mail: U.S. Department of the Interior, Bureau of Land Management, 1849 C Street NW., Room 2134LM, Attention: Jean Sonneman, Washington, DC 20240.

Fax: to Anna Atkinson at 202-245-0050.

Electronic mail: amatkinson@blm.gov.

Please indicate “Attn: 1004-0185” regardless of the form of your comments.

FOR FURTHER INFORMATION CONTACT: Jennifer Spencer, Division of Fluid Minerals, at 202-912-7146. Persons who use a telecommunication device for the deaf (TDD) may call the Federal Information Relay Service (FIRS) at 1-800-877-8339, to leave a message for Ms. Spencer.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

The following information is provided for the information collection:

Title: Onshore Oil and Gas Leasing and Drainage Protection (43 CFR parts 3100, 3120, 3150, and Subpart 3162).

Forms: This is a nonform collection.

OMB Control Number: 1004-0185.

Abstract: The BLM proposes to extend the currently approved collection of information. The collection enables the BLM to monitor and enforce compliance with requirements pertaining to:

1. Statutory acreage limitations;

2. Waiver, suspension, or reduction of rental or royalty payments;

3. Various types of agreements, contracts, consolidations and combinations;

4. Subsurface storage of oil and gas;

5. Transfers, name changes, and corporate mergers;

6. Lease renewal, relinquishment, termination, and cancellation;

7. Leasing under railroads and certain other types of rights-of-way;

8. Lands available for competitive leasing; and

9. Drainage protection.

Frequency of Collection: All responses are submitted on occasion under this control number and are required to obtain or retain an oil and gas lease benefit.

Estimated Number and Description of Respondents Annually: 6,165 Federal and Indian oil and gas lessees, operators, record title owners, and holders of options to acquire an interest in Federal or Indian leases.

Estimated Reporting and Recordkeeping “Hour” Burden Annually: 25,395 hours.

Estimated Reporting and Recordkeeping “Non-Hour Cost” Burden Annually: $462,284.

The following table details the individual components and respective hour burdens of this information collection request:

A. | B. | C. | D.
Type of response | Number of responses | Hours per response | Total hours (Column B × Column C)
Notice of option holdings 43 CFR 3100.3-1(b) | 1 | 1 | 1
Option statement 43 CFR 3100.3-3 | 1 | 1 | 1
Proof of acreage reduction 43 CFR 3101.2-4(a) | 1 | 1 | 1
Excess acreage petition 43 CFR 3101.2-4(a) | 1 | 1 | 1
Ad hoc acreage statement 43 CFR 3101.2-6 | 1 | 1 | 1
Joinder evidence statement 43 CFR 3101.3-1 | 50 | 1 | 50
Waiver, suspension, or reduction of rental or royalty 43 CFR 3103.4-1 | 130 | 2 | 260
Communitization or drilling agreements 43 CFR 3105.2 | 535 | 2 | 1,070
Operating, drilling, or development contracts 43 CFR 3105.3 | 1 | 1 | 1
Joint operations, transportation of oil application 43 CFR 3105.4 | 1 | 1 | 1
Subsurface storage application 43 CFR 3105.5 | 1 | 1 | 1
Consolidation of leases 43 CFR 3105.6 | 35 | 1 | 35
Heirs and devisees statement 43 CFR 3106.8-1 | 90 | 1 | 90
Change of name 43 CFR 3106.8-2 | 160 | 1 | 160
Corporate merger 43 CFR 3106.8-3 | 1,755 | 1 | 1,755
Lease renewal application 43 CFR 3107.8 | 1 | 1 | 1
Relinquishment 43 CFR 3108.1 | 90 | 1 | 90
Class I reinstatement petition 43 CFR 3108.2-2 | 35 | 3 | 105
Class II reinstatement petition 43 CFR 3108.2-3 | 30 | 3 | 90
Class III reinstatement petition 43 CFR 3108.2-4 | 1 | 1 | 1
Application for lease under right-of-way 43 CFR 3109.1 | 5 | 8 | 40
Lands available for competitive leasing 43 CFR 3120.1-1(e) | 1,750 | 8 | 14,000
Protests and appeals 43 CFR 3120.1-3 | 380 | 8 | 3,040
Preliminary drainage protection report 43 CFR 3162.2-9 | 1,000 | 2 | 2,000
Detailed drainage protection report 43 CFR 3162.2-9 | 100 | 24 | 2,400
Additional drainage protection report 43 CFR 3162.2-9 | 10 | 20 | 200
Totals | 6,165 |  | 25,395

Before including your address, phone number, email address, or other person identifying information in your comment, you should be aware that your entire comment—including your person identifying information—may be made publicly available at any time. While you can ask us in your comment to withhold your personal identifying information from public review, we cannot guarantee that we will be able to do so.

Anna Atkinson,
Acting Information Collection Clearance Officer, Bureau of Land Management.

[FR Doc. 2015-17230 Filed 7-13-15; 8:45 am]

BILLING CODE 4310-84-P